DEPARTMENT OF THE INTERIOR

National Park Service

Final General Management Plan and Environmental Impact Statement, Flight 93 National Memorial, PA

AGENCY: National Park Service, Department of the Interior.

ACTION: Notice of availability of the Final Environmental Impact Statement for the General Management Plan, Flight 93 National Memorial.

SUMMARY: Pursuant to section 102(2)(C) of the National Environmental Policy Act of 1969 (Pub. L. 91-190, as amended), the National Park Service announces the availability of the Final General Management Plan and Environmental Impact Statement (GMP/EIS) for Flight 93 National Memorial, in Somerset County, Pennsylvania. Consistent with Federal laws, regulations, and National Park Service policies, the Final GMP/EIS describes the proposed Federal action to establish a programmatic framework in the form of a General Management Plan to accomplish the objectives set forth in the Flight 93 National Memorial Act (Pub. L. 107-226; 116 Stat. 1345).

The Final GMP/EIS evaluates alternatives to guide the development and future management of the national memorial over the next 15 to 20 years. Alternative 1—No Action provides a baseline evaluation of the existing resource conditions, facilities and management at the Flight 93 National Memorial. Alternative 2, the agency's preferred alternative, focuses on the final selected design from the Flight 93 National Memorial International Design Competition. The Final GMP/EIS describes the affected environment and evaluates the potential environmental consequences of developing a new national memorial in Somerset County, Pennsylvania. Impact topics evaluated include historic and cultural resources, natural resources, land use, transportation, socioeconomic impacts, visual and aesthetic impacts, energy requirements, and public health and safety.

On June 16, 2006, a “Notice of Availability” announcing the public availability of the Flight 93 National Memorial Draft General Management Plan/Environmental Impact Statement was published in the Federal Register (71 FR 34964). This public review period extended for 60 days from June 16 to August 15, 2006. On July 20, 2006, the National Park Service conducted an open house style public meeting at the Shanksville-Stonycreek School in Shanksville, Pennsylvania.

DATES: The NPS will prepare a Record of Decision no sooner than 30 days following publication by the Environmental Protection Agency of the Notice of Availability of the Final GMP/EIS in the Federal Register.

ADDRESSES: The Final GMP/EIS is available online at http://www.flight93memorialproject.org. The Final General Management Plan/Environmental Impact Statement is also available at the National Park Service office at the address below.

FOR FURTHER INFORMATION CONTACT: Superintendent, Flight 93 National Memorial, 109 W. Main Street, Suite 104, Somerset, PA 15501.

SUPPLEMENTARY INFORMATION: The Flight 93 National Memorial Act (Pub. L. 107-226; 116 Stat. 1345), enacted on September 24, 2002, authorized ”a national memorial to commemorate the passengers and crew of Flight 93 who, on September 11, 2001, courageously gave their lives thereby thwarting a planned attack on our Nation's Capital.” This legislation enabled the creation and development of the new Flight 93 National Memorial in Stonycreek Township, Somerset County, Pennsylvania and specifically designated the crash site of Flight 93 as the site to honor the passengers and crew of Flight 93. Pub. L. 107-226 authorized the Secretary of the Interior to administer the Flight 93 National Memorial as a unit of the national park system. This Act also created the Flight 93 Advisory Commission and charged it with: (1) Advising the Secretary on the boundary of the memorial site; (2) submitting to the Secretary a report containing recommendations for the planning, design, construction, and long-term management of a permanent memorial at the crash site; and (3) advising the Secretary in the development of a management plan for the site.

On January 14, 2005, the Secretary of the Interior approved a boundary recommendation for the memorial presented by the Flight 93 Advisory Commission. The details of the boundary were published in the Federal Register (70 FR 13538) on March 21, 2005. The boundary includes 1,355 acres, which comprises the crash site, the debris field and areas where human remains were found, and lands necessary for viewing and accessing the national memorial. Approximately 907 additional acres comprise the perimeter viewshed, which would be protected through conservation or scenic easements acquired by partners, nonprofit organizations or other governmental agencies.

On September 11, 2004, the Partners opened a two-stage international design competition to solicit a broad range of concepts for the design of the new memorial. More than 1,000 design professionals and members of the public submitted design concepts. During Stage 1 of the competition, five top designs were selected by a jury of professionals, family members and local leaders after extensive public exhibit of the designs. A Stage 2 design jury selected the final design that best achieved the mission of the new memorial. The selected design was announced to the public on September 7, 2005, and is the basis of the preferred alternative in the Draft GMP/EIS. Subsequent to the announcement of the final design and during the public review period for the Draft GMP/EIS, comments were received criticizing the design's primary circular landscape feature, comparing it to an Islamic crescent symbol. The design was subsequently refined. These refinements will be reflected in the final design.

The Environmental Impact Statement assesses the potential effects of implementing the No Action Alternative, which represents existing conditions, and the Preferred Design Concept. During this process, the National Park Service conducted an open and inclusive public scoping process, and an extensive public participation process, involving consultations with local, State, and Federal agencies, as well as nonprofit organizations and the community.

Dated: March 23, 2007.
Chrysandra L. Walter,
Acting Regional Director, Northeast Region, National Park Service.

[FR Doc. E7-12013 Filed 6-20-07; 8:45 am]

BILLING CODE 4312-25-P